NATIONAL SCIENCE FOUNDATION

Proposal Review Panel for Physics; Notice of Meeting

In accordance with the Federal Advisory Committee Act (Pub. L. 92-463, as amended), the National Science Foundation announces the following meeting.

Name: Cornell University Site Visit in Physics (1208).

Date And Time: Wednesday, December 2, 2009 8 a.m.-6 p.m.; Thursday, December 3, 2009 8 a.m.-3 p.m.

Place: Cornell University, Ithaca, NY.

Type of Meeting: Partially Closed.

Contact Person: Dr. David Lissauer, Program Director for Elementary Particle Physics, National Science Foundation, 4201 Wilson Blvd., Arlington, VA 22230. Telephone: (703) 292-7061.

Purpose of Meeting: To provide an evaluation concerning the proposal submitted to the National Science Foundation.

Agenda

Wednesday. December 2, 2009

Closed—8-9 Executive Session

Open—9-3 CESR Discussion & tour of the Wilson Lab

Closed—3-3:30 Executive Session

Open—3:30-6 Project X for DUSEL

Thursday, December 3, 2009

Closed—8-9 Executive Session

Open—9-11:30 Muon & Tour Acceleration and Outreach

Closed—11:30-3:30 Executive Session & Close out with Lab Leaders

Reason For Closing: The proposal contains proprietary or confidential material including technical information; financial data, such as salaries; and personal information concerning individuals associated with the proposals. These matters are exempt under 5 U.S.C. 552b (c) and (6) of the Government in the Sunshine Act.

Dated: October 29, 2009.
Susanne Bolton,
Committee Management Officer.

[FR Doc. E9-26449 Filed 11-2-09; 8:45 am]

BILLING CODE 7555-01-P